DEPARTMENT OF ENERGY

Federal Energy Regulatory Commission

[Project No. 13654-000]

Riverbank Minnesota, LLC; Notice of Preliminary Permit Application Accepted for Filing and Soliciting Comments, Motions To Intervene, and Competing Applications

April 2, 2010.

On January 12, 2010, Riverbank Minnesota, LLC filed an application, pursuant to section 4(f) of the Federal Power Act, proposing to study the feasibility of the Chippewa County Pumped Storage Project No. 13654, to be located north of the City of Granite Falls and the Minnesota River in Chippewa County, Minnesota.

The proposed pumped storage project would consist of: (1) A new approximately 135-acre, 30-foot-deep upper reservoir constructed of enclosed earth embankments; (2) a new lower reservoir excavated in granite bedrock at a depth of approximately 1,800 feet below the surface, consisting of six approximately 150-foot-high, 90-foot-wide underground galleries; (3) a new approximately 20 to 100-foot-diameter intake structure; (4) a new approximately 1,800-foot-long, 20-foot-diameter penstock from the intake structure to an underground powerhouse; (5) a new approximately 380-foot-long, 83-foot-wide, and 400-foot-high underground powerhouse; (6) four new reversible pump-turbines with a total combined capacity of 1,000 megawatts; (7) a new 330-foot-long, 55-foot-wide, and 400-foot-high transformer gallery; (8) a new 200 to 1,000-foot-long, 230-kilovolt transmission line; and (9) appurtenant facilities. The project would have an estimated annual generation of 2,190 gigawatt-hours.

Applicant Contact: Douglas Spaulding, Nelson Energy, 8441 Wayzata Boulevard, Suite 101, Golden Valley, MN 55426, (952) 544-8133.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13654) in the docket number field to access the document. For assistance, call toll-free 1-866-208-3372.

Kimberly D. Bose,
Secretary.

[FR Doc. 2010-8074 Filed 4-8-10; 8:45 am]

BILLING CODE 6717-01-P